DEPARTMENT OF THE INTERIOR

National Park Service

Notice of Inventory Completion for Native American Human Remains and Associated Funerary Objects in the Possession of the Palmer Foundation for Chiropractic History, Palmer College of Chiropractic, Davenport, IA

AGENCY: National Park Service.

ACTION: Notice.

Notice is hereby given in accordance with provisions of the Native American Graves Protection and Repatriation Act (NAGPRA), 43 CFR 10.9, of the completion of an inventory of human remains and associated funerary objects in the possession of the Palmer Foundation for Chiropractic History, Davenport, IA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Palmer Foundation for Chiropractic History professional staff in consultation with representatives of the Santa Ynez Band of Mission Indians.

In approximately 1903-1904, human remains representing two individuals were removed from an unidentified island in the Santa Barbara Channel Islands, CA, by D.D. Palmer. These remains were part of a collection of human remains held at a chiropractic college founded by Mr. Palmer in Santa Barbara, CA. After this institution closed, the remains were transferred to the Palmer School, Davenport, IA, in approximately 1906. The Palmer School was a forerunner of the Palmer College of Chiropractic. No known individuals were identified. No associated funerary objects are present.

Osteological examination of the human remains by Palmer Foundation for Chiropractic History curatorial staff indicates that these individuals are Native American. The degree of preservation of the remains suggests that they can be dated to the last several thousand years. The geographical location of the finding of the remains is consistent with the territory of the Island Chumash, represented by the Santa Ynez Band of Mission Indians. There is no evidence to contradict this.

Based on the above-mentioned information, officials of the Palmer Foundation for Chiropractic History have determined that, pursuant to 43 CFR 10.2 (d)(1), the human remains listed above represent the physical remains of two individuals of Native American ancestry. Officials of the Palmer Foundation for Chiropractic History also have determined that, pursuant to 43 CFR 10.2 (e), there is a relationship of shared group identity that can be reasonably traced between these Native American human remains and the Santa Ynez Band of Mission Indians.

This notice has been sent to officials of the Santa Ynez Band of Mission Indians. Representatives of any other Indian tribe that believes itself to be culturally affiliated with these human remains should contact Alana Callender, Palmer Foundation for Chiropractic History, Palmer College of Chiropractic, 1000 Brady Street, Davenport, IA 52803, telephone (319) 884-5404, before January 12, 2001. Repatriation of the human remains to the Santa Ynez Band of Mission Indians may begin after that date if no additional claimants come forward.

Dated: December 1, 2000.
John Robbins,
Assistant Director, Cultural Resources, Stewardship, and Partnerships.

[FR Doc. 00-31661 Filed 12-12-00; 8:45 am]

BILLING CODE 4310-70-F